Title 3—

The President

Executive Order 13580 of July 12, 2011

Interagency Working Group on Coordination of Domestic Energy Development and Permitting in Alaska

By the authority vested in me as President by the Constitution and the laws of the United States of America, and in order to establish an interagency working group to coordinate the efforts of Federal agencies responsible for overseeing the safe and responsible development of onshore and offshore energy resources and associated infrastructure in Alaska and to help reduce our dependence on foreign oil, it is hereby ordered as follows:

Section 1. Policy. Interagency coordination is important for the safe, responsible, and efficient development of oil and natural gas resources in Alaska, both onshore and on the Alaska Outer Continental Shelf (OCS), while protecting human health and the environment, as well as indigenous populations. A number of executive departments and agencies (agencies) are charged with ensuring that resource development projects in Alaska comply with health, safety, and environmental protection standards. To formalize and promote ongoing interagency coordination, this order establishes a high-level, interagency working group that will facilitate coordinated and efficient domestic energy development and permitting in Alaska while ensuring that all applicable standards are fully met.

Sec. 2. Establishment. There is established an Interagency Working Group on Coordination of Domestic Energy Development and Permitting in Alaska (Working Group), led by the Department of the Interior.

Sec. 3. Membership. (a) The Deputy Secretary of the Interior shall serve as Chair of the Working Group and coordinate its work. The Working Group shall also include deputy-level representatives or officials at the equivalent level, designated by the head of the respective agency, from:

(i) the Department of Defense;

(ii) the Department of Commerce;

(iii) the Department of Agriculture;

(iv) the Department of Energy;

(v) the Department of Homeland Security;

(vi) the Environmental Protection Agency; and

(vii) the Office of the Federal Coordinator for Alaska Natural Gas Transportation Projects.

(b) The Domestic Policy Council shall work closely with the Chair of the Working Group and assist in the interagency coordination functions described in section 4 of this order. To maximize coordination with National Security Policy Directive-66 (NSPD-66), “Arctic Region Policy;” Executive Order 13547 of July 19, 2010 (“Stewardship of the Ocean, Our Coasts, and the Great Lakes”); the National Response Framework; the National Oil and Hazardous Substances Pollution Contingency Plan (National Contingency Plan); and other relevant Federal policy initiatives, the Working Group shall also include deputy-level representatives or officials at the equivalent level, designated by the head of the respective agency or office, from:

(i) the Council on Environmental Quality;

(ii) the Office of Science and Technology Policy;

(iii) the Office of Management and Budget; and

(iv) the National Security Staff.

(c) The Working Group shall consult with other agencies and offices, as appropriate, in order to facilitate the sharing of information and best practices.

(d) Members of the Working Group shall meet periodically and on a schedule coordinated with significant milestones in the various permitting cycles. Staff from the participating agencies shall meet as appropriate to facilitate the functions of the Working Group.

Sec. 4. Functions. Consistent with the authorities and responsibilities of participating agencies, the Working Group shall perform the following functions:

(a) facilitate orderly and efficient decisionmaking regarding the issuance of permits and conduct of environmental reviews for onshore and offshore energy development projects in Alaska;

(b) ensure that the schedules and progress of agency regulatory and permitting activities are coordinated appropriately, that they operate efficiently and effectively, and that agencies assist one another, as appropriate;

(c) facilitate the sharing of application and project information among agencies, including information regarding anticipated timelines and milestones;

(d) ensure the sharing and integrity of scientific and environmental information and cultural and traditional knowledge among agencies to support the permit evaluation process of onshore and offshore energy development projects in Alaska;

(e) engage in longterm planning and ensure coordination with the appropriate Federal entities related to such issues as oil spill prevention, preparedness and response, and the development of necessary infrastructure to adequately support energy development in Alaska;

(f) coordinate Federal engagement with States, localities, and tribal governments, as it relates to energy development and permitting issues in Alaska, including:

(i) designating a primary point of contact to facilitate coordination with the State of Alaska;

(ii) designating a primary point of contact to facilitate coordination with local communities, governments, tribes, co-management organizations, and similar Alaska Native organizations;

(g) collaborate on stakeholder outreach; and

(h) promote interagency dialogue with respect to communications with industry regarding Alaska offshore and onshore energy development and permitting issues.

Sec. 5. General Provisions. (a) This order shall be implemented consistent with applicable law and subject to the availability of appropriations.

(b) The Department of the Interior shall provide administrative support for the Working Group to the extent permitted by law.

(c) Nothing in this order shall be construed to impair or otherwise affect:

(i) the authority granted by law to an executive department, agency, or the head thereof; or

(ii) the functions of the Director of the Office of Management and Budget relating to budgetary, administrative, or legislative proposals.

(d) This order is not intended to, and does not, create any right or benefit, substantive or procedural, enforceable at law or in equity by any party against the United States, its departments, agencies, or entities, its officers, employees, or agents, or any other person.

THE WHITE HOUSE,

July 12, 2011.

[FR Doc. 2011-18065

Filed 7-14-11; 11:15 am]

Billing code 3195-W1-P